DEPARTMENT OF ENERGY

Federal Energy Regulatory Commission

Combined Notice of Filings #1

Take notice that the Commission received the following exempt wholesale generator filings:

Docket Numbers: EG24-48-000.

Applicants: Kiowa County Solar Project, LLC.

Description: Kiowa County Solar Project, LLC submits Notice of Self-Certification of Exempt Wholesale Generator Status.

Filed Date: 12/1/23.

Accession Number: 20231201-5300.

Comment Date: 5 p.m. ET 12/22/23.

Docket Numbers: EG24-49-000.

Applicants: Martin County Solar Project, LLC.

Description: Martin County Solar Project, LLC submits Notice of Self-Certification of Exempt Wholesale Generator Status.

Filed Date: 12/1/23.

Accession Number: 20231201-5302.

Comment Date: 5 p.m. ET 12/22/23.

Docket Numbers: EG24-50-000.

Applicants: Martin County II Solar Project, LLC.

Description: Martin County II Solar Project, LLC submits Notice of Self-Certification of Exempt Wholesale Generator Status.

Filed Date: 12/1/23.

Accession Number: 20231201-5304.

Comment Date: 5 p.m. ET 12/22/23.

Take notice that the Commission received the following electric rate filings:

Docket Numbers: ER19-1411-003; ER22-48-003.

Applicants: Gridflex Generation, LLC, GenOn Bowline, LLC.

Description: Notice of Non-Material Change in Status of Bowline, LLC, et al.

Filed Date: 12/4/23.

Accession Number: 20231204-5095.

Comment Date: 5 p.m. ET 12/26/23.

Docket Numbers: ER23-2409-002.

Applicants: The Potomac Edison Company.

Description: Refund Report of The Potomac Edison Company.

Filed Date: 11/14/23.

Accession Number: 20231114-5187.

Comment Date: 5 p.m. ET 12/26/23.

Docket Numbers: ER24-76-001.

Applicants: PJM Interconnection, L.L.C.

Description: Tariff Amendment: Amendment to Revised SA No. 1313—NITSA Among PJM and CVEC to be effective 12/1/2023.

Filed Date: 12/4/23.

Accession Number: 20231204-5151.

Comment Date: 5 p.m. ET 12/26/23.

Docket Numbers: ER24-93-001.

Applicants: Ameren Transmission Company of Illinois.

Description: Tariff Amendment: Supplemental WVPA Fiber Agreement to be effective 12/14/2023.

Filed Date: 12/4/23.

Accession Number: 20231204-5065.

Comment Date: 5 p.m. ET 12/26/23.

Docket Numbers: ER24-99-001.

Applicants: PJM Interconnection, L.L.C.

Description: Tariff Amendment: Deficiency Response Capacity Market Reforms to Accommodate the Energy Transition to be effective 12/12/2023.

Filed Date: 12/1/23.

Accession Number: 20231201-5335.

Comment Date: 5 p.m. ET 12/22/23.

Docket Numbers: ER24-220-000; TS24-1-000.

Applicants: NorthWestern Energy Public Service Corporation, NorthWestern Energy Public Service Corporation.

Description: Request for Waiver of Standards of Conduct Requirements of NorthWestern Energy Public Service Corporation.

Filed Date: 10/25/23.

Accession Number: 20231025-5285.

Comment Date: 5 p.m. ET 12/18/23.

Docket Numbers: ER24-526-000.

Applicants: Northern Indiana Public Service Company LLC.

Description: § 205(d) Rate Filing: MoodyTap CIAC Agreement to be effective 1/1/2024.

Filed Date: 12/1/23.

Accession Number: 20231201-5299.

Comment Date: 5 p.m. ET 12/22/23.

Docket Numbers: ER24-527-000.

Applicants: Keystone Appalachian Transmission Company, PJM Interconnection, L.L.C.

Description: § 205(d) Rate Filing: Keystone Appalachian Transmission Company submits tariff filing per 35.13(a)(2)(iii-KATCo submits Operating and Interconnection Agreement, SA No. 6650 to be effective 12/31/9998.

Filed Date: 12/1/23.

Accession Number: 20231201-5314.

Comment Date: 5 p.m. ET 12/22/23.

Docket Numbers: ER24-528-000.

Applicants: ISO New England Inc., New England Power Pool Participants Committee.

Description: ISO New England Inc. and New England Power Pool filing of Installed Capacity Requirements, Hydro-Quebec Interconnection Capability Credits and Related Values for 2024-2025, 2025- 2026 and 2026-2027 Annual Reconfiguration Auctions.

Filed Date: 11/30/23.

Accession Number: 20231130-5389.

Comment Date: 5 p.m. ET 12/21/23.

Docket Numbers: ER24-529-000.

Applicants: Pacific Gas and Electric Company.

Description: Annual Formula Transmission Rate Update Filing for Rate Year 2024 of Pacific Gas and Electric Company.

Filed Date: 12/1/23.

Accession Number: 20231201-5277.

Comment Date: 5 p.m. ET 12/22/23.

Docket Numbers: ER24-530-000.

Applicants: Pacific Gas and Electric Company.

Description: Wholesale Distribution Tariff for Rate Year 2024 of Pacific Gas and Electric Company.

Filed Date: 12/1/23.

Accession Number: 20231201-5273.

Comment Date: 5 p.m. ET 12/22/23.

Docket Numbers: ER24-531-000.

Applicants: PJM Interconnection, L.L.C.

Description: § 205(d) Rate Filing: Original WMPA, Service Agreement No. 7137; Queue No. AE2-204 to be effective 2/5/2024.

Filed Date: 12/4/23.

Accession Number: 20231204-5076.

Comment Date: 5 p.m. ET 12/26/23.

Docket Numbers: ER24-533-000.

Applicants: PJM Interconnection, L.L.C.

Description: § 205(d) Rate Filing: Amendment to WMPA, Service Agreement No. 4766; Queue No. AB1-124 to be effective 2/5/2024.

Filed Date: 12/4/23.

Accession Number: 20231204-5089.

Comment Date: 5 p.m. ET 12/26/23.

Docket Numbers: ER24-534-000.

Applicants: PJM Interconnection, L.L.C.

Description: § 205(d) Rate Filing: Amendment to WMPA, Service Agreement No. 4775; Queue No. AB1-125 to be effective 2/5/2024.

Filed Date: 12/4/23.

Accession Number: 20231204-5096.

Comment Date: 5 p.m. ET 12/26/23.

Docket Numbers: ER24-535-000.

Applicants: PJM Interconnection, L.L.C.

Description: § 205(d) Rate Filing: Original NSA, Service Agreement No. 7143; Queue No. AF1-039 to be effective 2/5/2024.

Filed Date: 12/4/23.

Accession Number: 20231204-5107.

Comment Date: 5 p.m. ET 12/26/23.

Docket Numbers: ER24-536-000.

Applicants: PJM Interconnection, L.L.C.

Description: § 205(d) Rate Filing: Original NSA, Service Agreement No. 7144; Queue No. AC1-221/AD1-058 to be effective 2/5/2024.

Filed Date: 12/4/23.

Accession Number: 20231204-5113.

Comment Date: 5 p.m. ET 12/26/23.

Docket Numbers: ER24-538-000.

Applicants: PJM Interconnection, L.L.C.

Description: § 205(d) Rate Filing: Original CRA, Service Agreement No. 7145, Non-Queue No. NQ212 to be effective 11/2/2023.

Filed Date: 12/4/23.

Accession Number: 20231204-5149.

Comment Date: 5 p.m. ET 12/26/23.

Docket Numbers: ER24-539-000.

Applicants: PacifiCorp.

Description: § 205(d) Rate Filing: Montana-Dakota NITSA (S.A. No. 1097) to be effective 1/1/2024.

Filed Date: 12/4/23.

Accession Number: 20231204-5152.

Comment Date: 5 p.m. ET 12/26/23.

Docket Numbers: ER24-540-000.

Applicants: PJM Interconnection, L.L.C.

Description: § 205(d) Rate Filing: Original NSA, Service Agreement No. 7146; Queue No. AB1-105 to be effective 2/5/2024.

Filed Date: 12/4/23.

Accession Number: 20231204-5157.

Comment Date: 5 p.m. ET 12/26/23.

Docket Numbers: ER24-541-000.

Applicants: Kiowa County Solar Project, LLC.

Description: Baseline eTariff Filing: Market-Based Rate Application to be effective 2/3/2024.

Filed Date: 12/4/23.

Accession Number: 20231204-5162.

Comment Date: 5 p.m. ET 12/26/23.

Docket Numbers: ER24-542-000.

Applicants: TAI Huntsville Solar LLC.

Description: Baseline eTariff Filing: TAI Huntsville, LLC MBR Application Filing to be effective 2/2/2024.

Filed Date: 12/4/23.

Accession Number: 20231204-5165.

Comment Date: 5 p.m. ET 12/26/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 4, 2023.
Kimberly D. Bose,
Secretary.

[FR Doc. 2023-26975 Filed 12-7-23; 8:45 am]

BILLING CODE 6717-01-P